DEPARTMENT OF LABOR

Office of the Secretary

Submission for OMB Review; Comment Request

August 6, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail: King-Darrin@dol.gov.

Comments should be sent to Office of Information and Regulatory Affairs, Attn: Stuart Shapiro, OMB Desk Officer MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Radiation Sampling and Exposure Records—30 CFR 57.5037 and 57.5040.

OMB Number: 1219-0003.

Affected Public: Business or other for-profit.

Frequency: Annually; Weekly.

Number of Respondents: 2.

Number of Annual Responses: 100.

Average Time Per Response: Ranges from 6.5 hours to collect air sample and record results to 1.5 hours to submit the Form MSHA 4000-9.

Annual Burden Hours: 800.

Total Annualized Capital/Startup Costs: $0.

Total Annual Costs (operating/maintaining systems or purchasing services): $0.

Description: Airborne radon and radon daughters exist in every uranium mine and several other underground mining commodities. Radon is a radioactive gas. Operators are required to conduct weekly sampling of airborne radon and radon daughters concentrations. Mine operators must report individual miner's exposure to radon daughter concentrations annually to MSHA on the Form 4000-9. The mine operators are required to keep records of all mandatory samples, retain the results at the mine site of nearest mine office for two years.

Type of Review: Extension of a currently approved collection.

Agency: Mine Safety and Health Administration (MSHA).

Title: Hazardous Conditions Complaints—30 CFR 43.4 and 43.7.

OMB Number: 1219-0014.

Affecting Public: Business or other for-profit; Individuals or households.

Frequency: On occasion.

Number of Respondents: 651.

Number of Annual Responses: 651.

Average Time Per Response: 12 minutes.

Annual Burden Hours: 130.

Total Annualized Capital/Startup Costs: $0.

Total Annual Costs (operating/maintaining systems or purchasing services: $0.

Description: 30 CFR, part 43, provides procedures for a representative of miners or, if there is no representative of miners, an individual miner acting voluntarily for submitting or giving written notification to MSHA of an alleged violation of the Federal Mine Safety and Health Act or a mandatory standard or of an imminent danger. Such notification requires MSHA to make an immediate inspection.

Type of Review: Extension of a currently approved collection.

Agency: Mine Safety and Health Administration (MSHA).

Title: Mine Ventilation System Plan—30 CFR 57.8520.

OMB Number: 1219-0016.

Affected Public: Business or other for-profit.

Frequency: Annually.

Number of Respondents: 284.

Requirement | Number of annual responses | Frequency | Estimated time per response | Annual burden hours
Develop new plan | 15 | Annual | 24 | 360
Revising existing plan | 269 | Annual | 24 | 6,456
Total | 284 |  |  | 6,816

Total Annualized Capital/Startup Costs: $0.

Total Annual Costs (operating/maintaining systems or purchasing services: $0.

Description: 30 CFR 57.8520 requires mine operators to prepare written mine ventilation system plans and update those plans annually. The purposes are to ensure that each operator routinely plans, reviews, and updates the mine ventilation system; to ensure the availability of accurate and current ventilation; and to provide MSHA with the opportunity to alert the mine operator to potential hazards.

Type of Review: Extension of a currently approved collection.

Agency: Mine Safety and Health Administration (MSHA).

Title: Slope and Shaft Sinking Plans—30 CFR 77.1900.

OMB Number: 1219-0019.

Affected Public: Business or other for-profit.

Frequency: On occasion.

Number of Respondents: 887.

Number of Annual Responses: 48.

Average Time Per Response: 20 hours.

Annual Burden Hours: 960.

Total Annualized Capital/Startup Costs: $0.

Total Annual Costs (operating/maintaining systems or purchasing services: $720.

Annual Burden Hours: 130.

Total Annualized Capital/Startup Costs: $0.

Description: 30 CFR 77.1900 requires coal mine operators to submit to MSHA for approval, a plan that will provide for the safety of workers in each slope or shaft that is commenced or extended.

Ira L. Mills,
Departmental Clearance Officer.

[FR Doc. 01-20604 Filed 8-15-01; 8:45 am]

BILLING CODE 4510-43-M